DEPARTMENT OF COMMERCE

International Trade Administration

Initiation of Antidumping and Countervailing Duty Administrative Reviews and Requests for Revocations in Part

AGENCY: Import Administration, International Trade Administration, Department of Commerce.

SUMMARY: The Department of Commerce (“the Department”) has received requests to conduct administrative reviews of various antidumping duty orders and findings with June anniversary dates. In accordance with the Department's regulations, we are initiating those administrative reviews. The Department received requests to revoke three antidumping duty orders in part.

DATES: Effective Date: July 28, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping duty orders and findings with June anniversary dates. The Department also received requests to revoke in part the antidumping duty orders on Certain Polyester Staple Fiber from the People's Republic of China (“PRC”) with respect to two exporters, Polyethylene Terephthalate Film, Sheet, and Strip (“PET Film”) from South Korea with respect to one exporter, and Folding Metal Tables and Chairs from the PRC with respect to one exporter.

In the notice we published on June 30, 2010 (75 FR 37759), initiating the 2009/10 administrative reviews of the antidumping duty orders on ball bearings and parts thereof from various countries, we inadvertently referred to the case numbers U.S. Customs and Border Protection (“CBP”) uses in its application of the orders to entries of subject merchandise. Parties wishing to make submissions concerning the respective country-specific reviews should use, instead, the following case numbers in all such submissions to the Department: France A-427-801; Germany A-428-801; Italy A-475-801; Japan A-588-804; United Kingdom A-412-801.

Notice of No Sales

Under 19 CFR 351.213(d)(3), the Department may rescind a review where there are no exports, sales, or entries of subject merchandise during the respective period of review (“POR”) listed below. If a producer or exporter named in this initiation notice had no exports, sales, or entries during the POR, it must notify the Department within 60 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on CBP data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 60 calendar days of publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with section 19 CFR 351.221(c)(1)(i), we are initiating administrative reviews of the following antidumping and countervailing duty orders and findings. We intend to issue the final results of these reviews not later than June 30, 2011.

| Period to be reviewed
Antidumping Duty Proceedings
Japan:
Certain Large Diameter Carbon and Alloy Seamless, Standard, Line, and Pressure Pipe, A-588-850 | 6/1/09-5/31/10
JFE Steel Corporation
Nippon Steel Corporation
NKK Tubes
Sumitomo Metal Industries, Ltd.
South Korea:
Polyethylene Terephthalate Film, Sheet, and Strip, A-580-807 | 6/1/09-5/31/10
Kolon Industries, Inc
The People's Republic of China:
Certain Polyester Staple Fiber, ³ A-570-905 | 6/1/09-5/31/10
Far Eastern Industries, Ltd. (Shanghai) and Far Eastern Polychem Industries
Cixi Sansheng Chemical Fiber Co., Ltd.
Cixi Santai Chemical Fiber Co., Ltd.
Cixi Waysun Chemical Fiber Co., Ltd.
Hangzhou Sanxin Paper Co., Ltd.
Nantong Luolai Chemical Fiber Co., Ltd.
Nan Yang Textiles Co., Ltd.
Ningbo Dafa Chemical Fiber Co., Ltd.
Zhaoqing Tifo New Fiber Co., Ltd.
Zhejiang Waysun Chemical Fiber Co., Ltd.
Huvis Sichuan Chemical Fiber Corporation
Chlorinated Isocyanurates, ⁴ A-570-898 | 6/1/09-5/31/10
Arch Chemicals (China) Co., Ltd.
Hebei Jiheng Chemical Co. Ltd.
Juancheng Kangtai Chemical Co. Ltd.
Zhucheng Taisheng Chemical Co., Ltd.
Folding Metal Tables and Chairs, ⁵ A-570-868 | 6/1/09-5/31/10
New-Tec Integration Co., Ltd.
New-Tec Integration (Xiamen) Co., Ltd.
Feili Furniture Development Ltd. Quanzhou City
Feili Group (Fujian) Co., Ltd.
Lifetime Hong Kong Ltd.
Non-Frozen Apple Juice Concentrate, ⁶ A-570-855 | 6/1/09—5/31/10
Sanmenxia Luck Fruit Industry Co., Ltd.
Qin'an Great Wall Fruit Juice Beverage Co., Ltd.
Silicon Metal, ⁷ A-570-806 | 6/1/09-5/31/10
Shanghai Jinneng International Trade Co., Ltd.
Jiangxi Gangyuan Silicon Industry Company, Ltd.
Zhejiang Kaihua Yuantong Silicon Industry Co., Ltd.
Tapered Roller Bearings and Parts Thereof, Finished and Unfinished, ⁸ A-570-601 | 6/1/09—5/31/10
Zhejiang Sihe Machine Co., Ltd
Xinchang Kaiyuan Automotive Bearing Co., Ltd.
Peer Bearing Company—Changshan
Tianshui Hailin Import and Export Corporation

Countervailing Duty Proceeding

None.

Suspension Agreements

None.

³ If one of the above-named companies does not qualify for a separate rate, all other exporters of Certain Polyester Staple Fiber from the PRC who have not qualified for a separate rate are deemed to be covered by this review as part of the single PRC entity of which the named exporters are a part.

⁴ If one of the above-named companies does not qualify for a separate rate, all other exporters of Chlorinated Isocyanurates from the PRC who have not qualified for a separate rate are deemed to be covered by this review as part of the single PRC entity of which the named exporters are a part.

⁵ If one of the above-named companies does not qualify for a separate rate, all other exporters of Folding Metal Tables and Chairs from the PRC who have not qualified for a separate rate are deemed to be covered by this review as part of the single PRC entity of which the named exporters are a part.

⁶ If one of the above-named companies does not qualify for a separate rate, all other exporters of Non-Frozen Apple Juice Concentrate from the PRC who have not qualified for a separate rate are deemed to be covered by this review as part of the single PRC entity of which the named exporters are a part.

⁷ If one of the above-named companies does not qualify for a separate rate, all other exporters of Silicon Metal from the PRC who have not qualified for a separate rate are deemed to be covered by this review as part of the single PRC entity of which the named exporters are a part.

⁸ If one of the above-named companies does not qualify for a separate rate, all other exporters of Tapered Roller Bearings and Part Thereof, Finished and Unfinished from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Act (19 U.S.C. 1675(a)), and 19 CFR 351.221(c)(1)(i).

Dated: July 21, 2010.
Edward C. Yang,
Acting Deputy Assistant Secretary for Antidumping and Countervailing Duty Operations.

[FR Doc. 2010-18535 Filed 7-27-10; 8:45 am]

BILLING CODE 3510-DS-P